CONSUMER PRODUCT SAFETY COMMISSION

Commission Agenda and Priorities; Notice of Hearing

AGENCY: U.S. Consumer Product Safety Commission.

ACTION: Notice of public hearing.

SUMMARY: The U.S. Consumer Product Safety Commission (Commission or CPSC) will conduct a public hearing to receive views from interested parties about the Commission's agenda and priorities for fiscal year 2024, which begins on October 1, 2023, and for fiscal year 2025, which begins on October 1, 2024. We invite members of the public to participate.

DATES: The hybrid hearing will be held in person at CPSC's headquarters and remotely via webinar on May 10, 2023, beginning at 10 a.m. Eastern Daylight Time (EDT).

ADDRESSES: This year's hearing will be held as a hybrid meeting—in person at CPSC's headquarters and remotely via webinar. For individuals attending in person, the meeting will be held at CPSC's headquarters, located at 4330 East West Highway, 4th Floor—Hearing Room, Bethesda, MD 20814. Individuals who plan to attend the meeting remotely should pre-register for the webinar at https://cpsc.webex.com/weblink/register/rba37185ac315e7e0cf5666a1960c4028. After registering, you will receive a confirmation email containing information about joining the webinar. In person attendees do not need to register for the hearing. Requests to make oral presentations (in person or remotely) and the text of oral presentations and written comments should be sent by email to: cpsc-os@cpsc.gov, with the subject line, “Agenda and Priorities FY 2024 and/or 2025.” Requests to make oral presentations—in person or remotely—and the written text of any oral presentations must be received by the Office of the Secretary not later than 5 p.m. EDT on April 28, 2023. The Commission will accept written comments as well. These also must be received by the Office of the Secretary not later than 5 p.m. EDT on April 28, 2023.

FOR FURTHER INFORMATION CONTACT: For information about the hearing, or to request an opportunity to make an oral presentation, whether in person or remotely, please send an email to Elaine Niedzwiecki, the Office of the Secretary, U.S. Consumer Product Safety Commission, at eniedzwiecki@cpsc.gov: telephone (301) 504-7666.

SUPPLEMENTARY INFORMATION:

I. Background

Section 4(j) of the Consumer Product Safety Act (CPSA) (15 U.S.C. 2053(j)) requires the Commission to establish an agenda for action under the laws the Commission administers, and to the extent feasible, select priorities for action at least 30 days before the beginning of each fiscal year. Section 4(j) of the CPSA provides further that when establishing its agenda and priorities, the Commission shall conduct a public hearing and provide an opportunity for the submission of comments.

II. Registration for Remote Attendees

The hybrid public hearing will be held on May 10, 2023, at 10:00 a.m. EDT in person at CPSC's headquarters and remotely via CPSC Webinar.¹ All attendees who plan on joining remotely should pre-register for the Webinar by visiting https://cpsc.webex.com/weblink/register/rba37185ac315e7e0cf5666a1960c4028 and filling in the information. After registering you will receive a confirmation email containing information about joining the webinar. Detailed instructions for hearing participants and other interested parties will be made available on the CPSC website on the public calendar: https://www.cpsc.gov/Newsroom/Public-Calendar.

¹ The Commission voted 4-0 to approve publication of this notice.

III. Oral Presentations (Both in Person at CPSC's Headquarters and Remotely via Webinar) and Submission of Written Comments

The Commission is preparing the agency's fiscal year 2024 Operating Plan and fiscal year 2025 Congressional Budget Request. Fiscal year 2024 begins on October 1, 2023, and fiscal year 2025 begins on October 1, 2024. Through this notice, the Commission invites the public to comment on the Commission's agenda and priorities that will be established in the fiscal year 2024 Operating Plan and the fiscal year 2025 Congressional Budget. Proposed priorities should be aligned with the agency's Strategic Plan for fiscal years 2023-2026, which is available at: www.cpsc.gov/about-cpsc/agency-reports/performance-and-budget.

Persons who desire to make oral presentations at the hearing on May 10, 2023—in person or remotely—should send an email to the Office of the Secretary, U.S. Consumer Product Safety Commission at cpsc-os@cpsc.gov not later than 5 p.m. EDT on April 28, 2023. Texts of intended oral presentations should be captioned “Agenda and Priorities FY 2024, and/or 2025” and must be received not later than 5 p.m. EDT on April 28, 2023. Oral presentations—in person or remotely—should be limited to approximately 10 minutes. The Commission reserves the right to impose further time limitations or other restrictions on presentations.

If you do not want to make an oral presentation, but would like to provide written comments, you may do so. Written comments should be captioned, “Agenda and Priorities FY 2024 and/or 2025,” and sent to Office of the Secretary, U.S. Consumer Product Safety Commission at cpsc-os@cpsc.gov not later than 5 p.m. EDT on April 28, 2023. There is no length restriction for written comments.

Alberta E. Mills,
Secretary, U.S. Consumer Product Safety Commission.

[FR Doc. 2023-07988 Filed 4-14-23; 8:45 am]

BILLING CODE 6355-01-P